DEPARTMENT OF COMMERCE

National Oceanic and Atmospheric Administration

RIN 0648-XB161

Marine Mammals; File Nos. 16992 and 14535

AGENCY: National Marine Fisheries Service (NMFS), National Oceanic and Atmospheric Administration (NOAA), Commerce.

ACTION: Notice; receipt of applications.

SUMMARY: Notice is hereby given that (1) Paul Nachtigall, Ph.D., Hawaii Institute of Marine Biology, University of Hawaii, P.O. Box 1106, Kailua, HI 96734, has applied in due form for a permit to conduct research on captive cetaceans; and (2) Colleen Reichmuth, Ph.D., Long Marine Laboratory, University of California at Santa Cruz, 100 Shaffer Road, Santa Cruz, CA 95060, has applied in due form for an amendment to Permit No. 14535-01 to conduct research on captive pinnipeds.

DATES: Written, telefaxed, or email comments must be received on or before May 9, 2013.

ADDRESSES: The applications and related documents are available for review by selecting “Records Open for Public Comment” from the Features box on the Applications and Permits for Protected Species (APPS) home page, https://apps.nmfs.noaa.gov, and then selecting File Nos. 16992 and 14535 from the list of available applications.

These documents are also available upon written request or by appointment in the following offices:

File Nos. 16992 and 14535: Permits and Conservation Division, Office of Protected Resources, NMFS, 1315 East-West Highway, Room 13705, Silver Spring, MD 20910; phone (301) 427-8401; fax (301) 713-0376;

File No. 16992: Pacific Islands Region, NMFS, 1601 Kapiolani Blvd., Room 1110, Honolulu, HI 96814-4700; phone (808) 944-2200; fax (808) 973-2941; and

File No. 14535: Southwest Region, NMFS, 501 West Ocean Blvd., Suite 4200, Long Beach, CA 90802-4213; phone (562) 980-4001; fax (562) 980-4018.

Written comments on the applications should be submitted to the Chief, Permits and Conservation Division, at the address listed above. Comments may also be submitted by facsimile to (301) 713-0376, or by email to NMFS.Pr1Comments@noaa.gov. Please include “File No. 16992” or “File No. 14535” in the subject line of the email comment.

Individuals requesting a public hearing should submit a written request to the Chief, Permits and Conservation Division at the address listed above. The request should set forth the specific reasons why a hearing on either of these applications would be appropriate.

FOR FURTHER INFORMATION CONTACT: Jennifer Skidmore (File No. 16992) and Amy Sloan (File No. 14535) at 301-427-8401.

SUPPLEMENTARY INFORMATION: The subject permit and permit amendment are requested under the authority of the Marine Mammal Protection Act of 1972, as amended (MMPA; 16 U.S.C. 1361 et seq.), and the regulations governing the taking and importing of marine mammals (50 CFR part 216).

File No. 16992: The applicant has requested a five-year permit to continue research activities currently authorized under Permit No. 978-1857. The purpose of this research is to study basic hearing and echolocation in three bottlenose dolphins (Tursiops truncatus) and one false killer whale (Pseudorca crassidens) maintained in captivity at the Hawaii Institute of Marine Biology in Kaneohe, HI. Researchers would conduct hearing measurements using suction cup sensors to monitor electrical signals in the brain in response to sound and echolocation clicks. Temporary threshold shift (TTS) experiments would be conducted on one adult male bottlenose dolphin to provide basic measures of low frequency TTS necessary for establishing regulations for sound levels for navy sonars and geophysical oil exploration arrays. The research is accomplished using trained behaviors in which the animals voluntarily participate and can leave the testing area at any time.

File No. 14535: The applicant requests an amendment to Permit No. 14535-01 (75 FR 58352) to allow the addition of TTS studies to the currently approved research activities for captive pinnipeds held at Long Marine Laboratory in Santa Cruz, CA. This research may be conducted with up to two individuals from each of three species of ice seal: spotted (Phoca largha), ringed (Phoca hispida), and bearded (Erignathus barbatus) seals trained for participation in ongoing behavioral hearing studies. The proposed research will determine the onset of TTS as a result of voluntary exposure to single-pulse noise events similar to those that might be received by seals during seismic testing in arctic waters. This research will provide the first-ever direct information about the noise levels that cause a temporary, recoverable reduction in hearing sensitivity following exposure events in ice seals. Such information will help to fill data gaps on the issue of assessing potential adverse effects of industrial noise on arctic seals. The research is accomplished using trained behaviors in which the animals voluntarily participate and can leave the testing area at any time.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of these applications to the Marine Mammal Commission and its Committee of Scientific Advisors.

Dated: April 3, 2013.
P. Michael Payne,
Chief, Permits and Conservation Division, Office of Protected Resources, National Marine Fisheries Service.

[FR Doc. 2013-08166 Filed 4-8-13; 8:45 am]

BILLING CODE 3510-22-P